DEPARTMENT OF COMMERCE

National Oceanic and Atmospheric Administration

U.S. Integrated Ocean Observing System (IOOS®) Advisory Committee

AGENCY: National Ocean Service, National Oceanic and Atmospheric Administration (NOAA), Department of Commerce.

ACTION: Notice of open meeting.

SUMMARY: Notice is hereby given of a meeting of the U.S. Integrated Ocean Observing System (IOOS®) Advisory Committee (Committee) in Washington, DC.

DATES AND TIMES: The meeting will be held on Wednesday August 29, 2012, from 8:30 a.m. to 5 p.m.; and Thursday August 30, 2012, from 8:30 a.m. to 3 p.m. These times and the agenda topics described below are subject to change. Refer to the Web page listed below for the most up-to-date meeting agenda.

ADDRESSES: The meeting will be held at the Consortium for Ocean Leadership, 1201 New York Ave. NW., Washington, DC, 20005.

FOR FURTHER INFORMATION CONTACT: Jessica Snowden, Alternate Designated Federal Official, U.S. IOOS Advisory Committee, U.S. IOOS Program, 1100 Wayne Ave. Suite 1225, Silver Spring, MD 20910; Phone 301-427-2453; Fax 301-427-2073; Email Jessica.snowden@noaa.gov or visit the U.S. IOOS Advisory Committee Web site at http://www.ioos.gov/about/governance/ioos_advisory_committee.html.

SUPPLEMENTARY INFORMATION: The Committee was established by the NOAA Administrator as directed by Section 12304 of the Integrated Coastal and Ocean Observation System Act, part of the Omnibus Public Land Management Act of 2009 (Pub. L. 111-11). The Committee will advise the NOAA Administrator and the Interagency Ocean Observation Committee (IOOC) on matters related to the responsibilities and authorities set forth in section 12302 of the Integrated Coastal and Ocean Observation System Act of 2009 and other appropriate matters as the Under Secretary refers to the Committee for review and advice.

The Committee will provide advice on

(a) Administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 15-minute public comment period on August 29, 2012, from 4:15 p.m. to 4:30 p.m. and on August 30, 2012, from 2:45 p.m. to 3 p.m. (check agenda on Web site to confirm time.) The Committee expects that public statements presented at its meetings will not be repetitive of previously submitted verbal or written statements.

In general, each individual or group making a verbal presentation will be limited to a total time of three (3) minutes. Written comments should be received by the Designated Federal Official by August 17, 2012 to provide sufficient time for Committee review. Written comments received after August 17, 2012, will be distributed to the Committee, but may not be reviewed prior to the meeting date. Seats will be available on a first-come, first-served basis.

Matters to Be Considered: This is the inaugural meeting of the Committee. As such, the meeting will focus on swearing in the new members and defining the vision and outcomes expected of the Committee, including agency insights on the U.S. IOOS enterprise from NOAA and IOOC leadership. The agenda is subject to change. The latest version will be posted at http://www.ioos.gov/about/governance/ioos_advisory_committee.html.

Special Accomodations: These meetings are physically accessible to people with disabilities. Requests for sign language interpretation or other auxiliary aids should be directed to Jessica Snowden, alternate Designated Federal Official at 301-427-2453 by August 15, 2012.

Dated: July 19, 2012.
Zdenka S. Willis,
Director, U.S. Integrated Ocean Observing System.

[FR Doc. 2012-19759 Filed 8-9-12; 8:45 am]

BILLING CODE P